DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Northeast Illinois Railroad Corporation (METRA)

[Docket Number FRA-2004-17027]

The Northeast Illinois Railroad Corporation (METRA) seeks a waiver of compliance, Docket Number FRA-2004-17027, with the Passenger Equipment Safety Standards, 49 CFR part 238: section 103 (fire safety), section 203 (static end strength), section 205 (anti-climbing mechanism), section 207 (link between coupling mechanism and car body), section 209 (forward-facing end structure of locomotives), section 211 (collision posts), section 219 (truck-to-car-body attachment), section 223 (locomotive fuel tanks), section 225 (electrical systems), section 227 (suspension system), and section 237 (automated monitoring) as it pertains to alerters for super hy-rail vehicles utilized to move stranded passenger trains in rescue operations.

METRA is requesting the waiver to be pro-active in establishing a rescue plan for electric propulsion passenger train operations in the event of a power failure similar to that experienced in the Northeast in 2003. The plan calls for the hy-rail vehicles to be positioned strategically throughout the electric propulsion service area to push or pull stranded passenger trains to stations where the passengers can be safely unloaded. METRA states that these rescue movements would be made at a restricted speed by a certified locomotive engineer trained on the operation of the hy-rail vehicles and prior to any movement train brakes would receive a Class 1A brake test in compliance with 49 CFR 238.315.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (FRA-2004-17027) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on April 22, 2004.
Grady C. Cothen, Jr.,
Deputy Associate Administrator for Safety Standards and Program Development.

[FR Doc. 04-9633 Filed 4-27-04; 8:45 am]

BILLING CODE 4910-06-P